ENVIRONMENTAL PROTECTION AGENCY

[EPA-HQ-OW-2009-0090; FRL-9925-25-OW]

Proposed Information Collection Request; Comment Request; Information Collection Request Renewal for the Unregulated Contaminant Monitoring Rule (UCMR 3)

AGENCY: Environmental Protection Agency (EPA).

ACTION: Notice.

SUMMARY: The U.S. Environmental Protection Agency (EPA) will be submitting the “Information Collection Request Renewal for the Unregulated Contaminant Monitoring Rule (UCMR 3)” (EPA ICR No. 2192.06, OMB Control No. 2040-0270) to the Office of Management and Budget (OMB) for review and approval in accordance with the Paperwork Reduction Act (PRA; 44 U.S.C. 3501 et seq.). Before doing so, EPA solicits public comments on specific aspects of the proposed information collection as described in this renewal notice. This is a proposed extension of the information collection request (ICR), which is currently approved through August 31, 2015. An Agency may not conduct or sponsor and a person is not required to respond to a collection of information unless it displays a currently valid OMB control number.

DATES: Comments must be submitted on or before June 1, 2015.

ADDRESSES: Submit your comments, referencing Docket ID No. EPA-HQ-OW-2009-0090, online using www.regulations.gov (our preferred method), by email to OW-Docket@epa.gov or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Brenda D. Parris, Technical Support Center, Office of Ground Water and Drinking Water, Environmental Protection Agency, 26 West Martin Luther King Drive (MS 140), Cincinnati, Ohio 45268; telephone (513) 569-7961 or email at parris.brenda@epa.gov.

SUPPLEMENTARY INFORMATION: Supporting documents that explain in detail the information that EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit www.epa.gov/dockets.

Pursuant to section 3506(c)(2)(A) of the PRA, EPA requests comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. EPA will issue another Federal Register notice to announce the submission of the ICR to OMB and the opportunity to submit additional comments to OMB.

Abstract: The Safe Drinking Water Act (SDWA), as amended in 1996, requires EPA to establish criteria for a program for public water systems (PWSs) to monitor not more than 30 unregulated contaminants every five years. Information collected under the program supports Agency decision making regarding whether or not to regulate particular contaminants in drinking water. EPA published the first group of contaminants in UCMR 1, in the Federal Register on September 17, 1999 (64 FR 50556), and the second group of contaminants in UCMR 2, in the Federal Register on January 4, 2007 (72 FR 368). UCMR 3 addresses the third group of 30 contaminants and was published in the Federal Register on May 2, 2012 (77 FR 26071).

UCMR 3 “Assessment Monitoring” began in January 2013 and continues through December 2015 for all large systems (those systems serving 10,001 to 100,000 people) and very large systems (those systems serving more than 100,000 people), and for a nationally representative sample of 800 small systems (those systems serving 10,000 or fewer people). The “Screening Survey” began in January 2013 and continues through December 2015 for all very large systems, 320 randomly-selected large systems, and 480 randomly selected small systems. “Pre-Screen Testing” began in January 2013 and continues through December 2015 for a sample of 800 small, undisinfected ground water systems (those systems serving 1,000 or fewer people).

This notice proposes renewal of the currently approved UCMR 3 ICR, (OMB Control No. 2040-0270), which covers the period 2012-2014. This ICR renewal accounts for activities conducted during 2015-2017. The complete five-year UCMR 3 period of 2012-2016 overlaps with the applicable ICR period only during 2015 and 2016. PWSs will only be involved in active monitoring during 2015 (i.e., one-third of this ICR period).

This information collection does not require respondents to disclose confidential information.

Form Numbers: None.

Respondents/affected entities: Data associated with this ICR are collected and submitted by PWSs. States, territories and tribes with primacy to administer the regulatory program for PWSs under SDWA may participate in UCMR 3 implementation through a partnership agreement with EPA. These primacy agencies may sometimes conduct monitoring and maintain records.

Respondent's obligation to respond: Mandatory. The information collection is carried out per section 1445(a) of SDWA.

Estimated number of respondents: There are approximately 6,351 respondents to UCMR 3, including 2,098 PWSs that will monitor during the ICR years of 2015-2017; and 56 states and primacy agents.

Frequency of response: The frequency of responses varies based on the respondent type. PWSs and states have a different number of responses. PWSs served by surface water monitor for the UCMR contaminants four times during a 12-month period. PWSs served by ground water monitor twice during a 12-month period. The number of samples collected by PWSs also differs based on the size of the systems, and the number of entry points and distribution system sample points within each system. The total number of responses per respondent is 2.96 over the three ICR years of 2015-2017, or an average of 0.99 responses per respondent per year.

Total estimated burden: EPA estimates the annual labor burden per respondent at 8.31 hours during the ICR years of 2015-2017 for states and PWSs. Burden is defined at 5 CFR 1320.03(b).

Total estimated cost: EPA estimates the total cost at $7.45 million per year during the ICR years of 2015-2017 for states and PWSs. The total costs include labor costs and laboratory analysis (non-labor) costs. EPA pays for the analytical and sample shipping costs for small PWSs, and the Agency collects all the Pre-Screen Testing samples for all PWSs.

Changes in Estimates: There is a decrease of 68,294 hours in the total estimated respondent burden for states and PWSs compared with the existing ICR. Respondents to this renewal ICR will incur a different burden than those responding to the original ICR for 2012-2014 because:

• Fewer PWSs participate during the ICR period of 2015-2017 than in 2012-2014. Only one third of the systems monitor for UCMR 3 contaminants in 2015-2017; two-thirds of the systems have already monitored for UCMR 3 contaminants in 2012-2014.

• The schedule of activities for PWSs differs. Some initial activities were conducted by all systems during the previous ICR period. These activities will not take place during the second ICR period of 2015-2017.

• The schedule of activities differs for participating states. Management and support activities for states vary with the UCMR 3 monitoring schedule. States are expected to incur less burden during this second UCMR 3 ICR period of 2015-2017.

Dated: March 20, 2015.
Peter Grevatt,
Director, Office of Ground Water and Drinking Water.

[FR Doc. 2015-07360 Filed 3-30-15; 8:45 am]

BILLING CODE 6560-50-P